DEPARTMENT OF JUSTICE

Antitrust Division

Notice Pursuant to the National Cooperative Research and Production Act of 1993—International Electrotechnical Commission Technical Committee 55

Notice is hereby given that, on September 17, 2004, pursuant to section 6(a) of the National Cooperative Research and Production Act of 1993, 15 U.S.C. 4301 et seq. (“the Act”), International Electrotechnical Commission Technical Committee 55 (“IEC TC 55”), by its Secretariat, National Electrical Manufacturers Association (“NEMA”), has filed written notification simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Electrotechnical Commission Technical Committee 55, Rosslyn, VA. The nature and scope of IEC TC 55's standards development activities are: related to wires for electrical winding. IEC TC 55 currently maintains a series of IEC 60317 and IEC 60851 standards dealing with specifications and test methods for different types of winding wires. The standards developed by IEC TC 55 are published by NEMA.

Dorothy B. Fountain,
Deputy Director of Operations, Antitrust Division.

[FR Doc. 05-1984 Filed 2-1-05; 8:45 am]

BILLING CODE 4410-11-M